DEPARTMENT OF THE TREASURY

Customs Service

[T.D. 00-65]

Cancellation of Customs Broker Licenses

AGENCY: Customs Service, Department of the Treasury.

ACTION: Broker license cancellations.

I, as Assistant Commissioner, Office Field Operations, pursuant to section 641(f) Tariff Act of 1930, as amended (19 U.S.C. 1641(f)) and section 111.51(a) of the Customs Regulations (19 111.51(a)), hereby cancel the following Customs broker licenses without prejudice.

Name, Port, and License No.

Patricia L. Blasdel, Dallas, 06335

Lancer International Corp., Miami, 12183

Meston and Brings, Inc., Seattle, 06060

Paul Joseph Moskowitz, San Francisco, 03251

Hans Joerg Wintsch, San Francisco, 04515

Dated: September 27, 2000.
Bonni G. Tischler,
Assistant Commissioner, Office of Field Operations.

[FR Doc. 00-25584 Filed 10-4-00; 8:45 am]

BILLING CODE 4820-02-P